DEPARTMENT OF THE INTERIOR

Bureau of Reclamation

Information Collection Activities; Proposed Collection; Comment Request

AGENCY: Bureau of Reclamation, Interior.

ACTION: Notice and request for comments.

SUMMARY: In accordance with the Paperwork Reduction Act of 1995, this notice announces that the Bureau of Reclamation (Reclamation) intends to seek approval of the following proposed new information collection: Recreation Survey, New Melones Lake Project, Sonora, CA. Before submitting the information collection request to the Office of Management and Budget for approval, Reclamation is soliciting comments on specific aspects of the information collection.

DATES: Comments on this notice must be received by July 3, 2006.

ADDRESSES: Address all comments concerning this information collection to Bureau of Reclamation, Central California Area Office, 7794 Folsom Dam Road, Folsom, CA 95630.

FOR FURTHER INFORMATION CONTACT: For further information or a copy of the proposed collection of information form, contact Ms. Elizabeth Ayres, Bureau of Reclamation, telephone 916-989-7192, or at the address above.

SUPPLEMENTARY INFORMATION: Comments are invited on: (a) Whether the proposed collection of information is necessary for the proper performance of Reclamation's functions, including whether the information will have practical use; (b) the accuracy of Reclamation's estimated time and cost burdens of the proposed collection of information, including the validity of the methodology and assumptions used; (c) ways to enhance the quality, use, and clarity of the information to be collected; and (d) ways to minimize the burden of the collection of information on respondents, including increased use of automated collection techniques or other forms of information technology. Consideration will be given to comments and suggestions submitted within 60 days of this publication.

Title: Recreation Survey, New Melones Lake Project, Sonora, CA.

Abstract: The purpose of the on-site recreation survey is to characterize existing users, characterize their use of the New Melones Project, assess their satisfaction with their experience and the facilities, and find out what other opportunities or facilities they would like to see developed at the New Melones Lake Project. The purpose of the regional telephone survey is to characterize regional population, their outdoor recreation use, the demand for various types of outdoor recreation activities, trends in outdoor recreation use, and the extent to which regional population use New Melones Lake Project, Sonora, CA. Together the on-site survey and the regional telephone survey shall describe the recreational preferences of visitors to the New Melones Lake Project and provide guidance on what recreational planning objectives should be included in the New Melones Lake Project RMP/EIS.

Description of respondents: Persons who recreate at New Melones Lake Project and the areas surrounding New Melones Lake Project, and residents in Sonora and Tuolumne counties.

Frequency: This is a one-time voluntary survey.

Estimated Total Number of Respondents: 1,500.

Estimated Number of Responses per Respondent: 1.

Estimated Total Annual Burden on Respondents: 375 hours.

Estimate of Burden for Each Form
Form | Burden estimate per form (in minutes) | Number of respondents | Annual burden on respondents (in hours)
On-site survey | 15 | 1250 | 312.5
Telephone survey | 15 | 250 | 62.5
Total |  | 1500 | 375

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: April 24, 2006.
Michael R. Finnegan,
Area Manager of Central California Area Office, Mid-Pacific Region.

[FR Doc. E6-6593 Filed 5-1-06; 8:45 am]

BILLING CODE 4310-MN-P